OFFICE OF THE UNITED STATES TRADE REPRESENTATIVE

[Docket No. WTO/D-213]

WTO Consultations Regarding Countervailing Duties on Certain Corrosion-Resistant Carbon Steel Flat Products From Germany

AGENCY: Office of the United States Trade Representative.

ACTION: Notice; request for comments.

SUMMARY: The Office of the United States Trade Representative (USTR) is providing notice that on November 13, 2000, the United States received from the European Communities (EC) a request for consultations under the Marrakesh Agreement Establishing the World Trade Organization (WTO Agreement). The request relates to the countervailing duties imposed by the United States on imports of certain corrosion-resistant carbon steel flat products from Germany (U.S. Department of Commerce (Commerce) case number C-428-817). In particular, the request relates to the final results of a full sunset review in that case carried out by Commerce and published at 65 FR 47407 (August 2, 2000). The EC alleges that Commerce's finding that revocation of the countervailing duty order would be likely to lead to the continuation or recurrence of a countervailable subsidy is inconsistent with U.S. obligations under the WTO Agreement on Subsidies and Countervailing Measures (SCM Agreement), particularly Articles 10, 11.9 and 21 of that agreement. Under Article 4.3 of the WTO Dispute Settlement Understanding (DSU), consultations are to take place within a period of 30 days from the date of receipt of the request, or within a period otherwise mutually agreed between the United States and the EC. USTR invites written comments from the public concerning the issues raised in this dispute.

DATES: Although USTR will accept any comments received during the course of the dispute settlement proceedings, comments should be submitted on or before January 15, 2001, to be assured of timely consideration by USTR.

ADDRESSES: Submit comments to Sandy McKinzy, Monitoring and Enforcement Unit, Office of the General Counsel, Room 122, Office of the United States Trade Representative, 600 17th Street, NW., Washington, DC, 20508, Attn: Corrosion-Resistant Steel Dispute. Telephone: (202) 395-3582.

FOR FURTHER INFORMATION CONTACT: William D. Hunter, Associate General Counsel, Office of the United States Trade Representative, 600 17th Street, NW., Washington, DC, 20508. Telephone: (202) 395-3582.

SUPPLEMENTARY INFORMATION: Section 127(b) of the Uruguay Round Agreements Act (URAA) (19 U.S.C. 3537(b)(1)) requires that notice and opportunity for comment be provided after the United States receives a request for the establishment of a WTO dispute settlement panel. Consistent with this obligation, but in an effort to provide additional opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the EC

In its consultation request, the EC alleges that the 1 percent de minimis standard in Article 11.9 of the SCM Agreement applies to sunset reviews under Article 21.3. Thus, according to the EC, because Commerce found a likely subsidization rate of only 0.54 percent in its sunset review of the countervailing duty order on corrison-resistant steel from Germany, Commerce was required to revoke the countervailing duty order. The EC also alleges that there is no possibility that the rate of subsidization could increase, because under Commerce's “declining balance” methodology for allocating non-recurring subsidies over time, the rate of subsidization likely will continue to decline.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, NW., Washington, DC 20508. The public file will include a listing of any comments received by USTR from the public with respect to the proceeding; the U.S. submissions to the panel in the proceeding, the submissions, or non-confidential summaries of submissions, to the panel received from other participants in the dispute, as well as the report of the dispute settlement panel, and, if applicable, the report of the Appellate Body. An appointment to review the public file (Docket WTO/D-213, Corrosion-Resistant Steel Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 00-30886 Filed 12-4-00; 8:45 am]

BILLING CODE 3190-01-M